DEPARTMENT OF COMMERCE

International Trade Administration

[A-533-869]

Certain New Pneumatic Off-the-Road Tires From India: Final Results of Antidumping Duty Administrative Review; 2022-2023

AGENCY: Enforcement and Compliance, International Trade Administration, Department of Commerce.

SUMMARY: The U.S. Department of Commerce (Commerce) determines that certain producers/exporters subject to this administrative review made sales of subject merchandise at less than normal value during the period of review (POR) March 1, 2022, through February 28, 2023.

DATES: Applicable October 17, 2024.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

Background

On April 5, 2024, Commerce published the Preliminary Results and invited comments from interested parties.¹ On May 16, 2024, Titan Tire Corporation (the petitioner), ATC Tires Private Limited/ATC AP Tires Private Limited (collectively, ATC), Asian Tire Factory Ltd./Lyallpur Rubber Mills (collectively, ATF), and Balkrishna Industries Ltd. submitted timely-filed case briefs. On May 23, 2024, the petitioner, ATC, and ATF submitted timely-filed rebuttal briefs. On July 3, 2024, Commerce extended the deadline for the final results until October 2, 2024.² On July 22, 2024, Commerce tolled certain deadlines in this administrative proceeding by seven days.³ The deadline for the final results is now October 9, 2024. For a complete description of the events that occurred since the Preliminary Results, see the Issues and Decision Memorandum.⁴ Commerce conducted this administrative review in accordance with section 751 of the Tariff Act of 1930, as amended (the Act).

¹ See Certain New Pneumatic Off-the-Road Tires from India: Preliminary Results of Antidumping Duty Administrative Review; 2022-2023, 89 FR 23973 (April 5, 2024) (Preliminary Results), and accompanying Preliminary Decision Memorandum (PDM).

² See Memorandum, “Extension of Deadline for Final Results of 2022-2023 Antidumping Duty Administrative Review,” dated July 3, 2024.

³ See Memorandum, “Tolling of Deadlines for Antidumping and Countervailing Duty Proceedings,” dated July 22, 2024.

⁴ See Memorandum, “Issues and Decision Memorandum for the Final Results of the 2022-2023 Administrative Review of the Antidumping Duty Order on Certain New Pneumatic Off-the-Road Tires from India,” dated concurrently with, and hereby adopted by, this notice (Issues and Decision Memorandum).

Scope of the Order ⁵

⁵ See Certain Now Pneumatic Off-the-Road Tires from India: Antidumping Duly Order, 82 FR 12553 (March 6, 2017) (Order).

The merchandise subject to the Order is certain new pneumatic off-the-road tires from India. For a full description of the scope of the Order, see the Issues and Decision Memorandum.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding our Preliminary Results, we made certain changes to the margin calculations for ATC and ATF.⁶

⁶ For a full description of these changes, see Issues and Decision Memorandum.

Rate for Companies Not Selected for Individual Examination

The Act and Commerce's regulations do not address the rate to be applied to companies not selected for individual examination when Commerce limits its examination in an administrative review pursuant to section 777A(c)(2) of the Act. Generally, Commerce looks to section 735(c)(5) of the Act, which provides instructions for calculating the all-others rate in an investigation, for guidance for calculating the rate for companies which were not selected for individual examination in an administrative review. Under section 735(c)(5)(A) of the Act, the all-others rate is normally an amount equal to the weighted-average of the estimated weighted-average dumping margins established for exporters and producers individually investigated, excluding any zero or de minimis margins, and any margins determined entirely on the basis of facts available.

In this review, we calculated weighted-average dumping margins of 2.62 percent and 2.76 percent for ATC and ATF, respectively, and we have assigned to the non-selected companies a rate of 2.63 percent, which is the weighted average of ATC and ATF's margins, weighted by their publicly ranged U.S. sales values.⁷

⁷ With two respondents under examination, Commerce normally calculates: (A) a weighted-average of the dumping margins calculated for the examined respondents; (B) a simple average of the dumping margins calculated for the examined respondents; and (C) a weighted-average of the dumping margins calculated for the examined respondents using each company's publicly ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010). See also Memorandum, “Calculation of the Non-Selected Company Rate for the Final Results,” dated concurrently with this notice.

Final Results of Review

For these final results, we determine the following estimated weighted-average dumping margins exist for the period March 1, 2022, through February 28, 2023:

⁸ The exporters or producers not selected for individual review are listed in Appendix II.

Producer or exporter | Weighted- average dumping margin (percent)
ATC Tires Private Limited; ATC Tires AP Private Limited | 2.62
Asian Tire Factory Ltd.; Lyallpur Rubber Mills | 2.76
Companies Not Selected for Individual Review ⁸ | 2.63

Disclosure

Commerce intends to disclose the calculations performed for ATC and ATF in connection with these final results to interested parties within five days of any public announcement or, if there is no public announcement, within five days of the date of publication of this notice in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.

Pursuant to 19 CFR 351.212(b)(1), because ATC reported the entered value of its U.S. sales, we calculated importer-specific ad valorem duty assessment rates based on the ratio of the total amount of dumping calculated for the examined sales to the total entered value of the sales for which entered value was reported. ATF did not report the actual entered value for its U.S. sales; thus, we calculated importer-specific per-unit duty assessment rates by aggregating the total amount of antidumping duties calculated for the examined sales and dividing this amount by the total quantity of those sales. Where either the respondent's weighted-average dumping margin is zero or de minimis within the meaning of 19 CFR 351.106(c)(1), or an importer-specific assessment rate is zero or de minimis, we will instruct CBP to liquidate the appropriate entries without regard to antidumping duties.

Commerce's “automatic assessment” practice will apply to entries of subject merchandise during the POR produced by ATC or ATF for which the reviewed companies did not know that the merchandise they sold to the intermediary (e.g., a reseller, trading company, or exporter) was destined for the United States. In such instances, we will instruct CBP to liquidate unreviewed entries at the all-others rate if there is no rate for the intermediate company(ies) involved in the transaction.

For the companies listed in Appendix II which were not selected for individual review, we will assign an assessment rate based on the review-specific rate, calculated as noted in the “Rate for Companies Not Selected for Individual Examination” section, above. The final results of this review shall be the basis for the assessment of antidumping duties on entries of merchandise covered by the final results of this review and for the future deposits of estimated duties where applicable.⁹

⁹ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies covered in this review will be equal to the weighted-average dumping margin that is established in the final results of this review, except if the rate is less than 0.50 percent and, therefore, de minimis within the meaning of 19 CFR 351.106(c)(1), in which case the cash deposit rate will be zero; (2) for previously investigated or reviewed companies not listed above, the cash deposit rate will continue to be the company-specific rate published for the most recently completed segment of this proceeding in which the company participated; (3) if the exporter is not a firm covered in this review, or the original less-than-fair-value (LTFV) investigation, but the manufacturer is, the cash deposit rate will be the cash deposit rate established for the most recently completed segment for the producer of the subject merchandise; and (4) the cash deposit rate for all other producers or exporters will continue to be zero percent, the all-others rate established in the LTFV investigation.¹⁰ These deposit requirements, when imposed, shall remain in effect until further notice.

¹⁰ See Order, 82 FR at 12554 (the dumping margin of 3.67 percent assigned to all other producers/exporters was adjusted for export subsidies found in the companion countervailing duty investigation, resulting in an adjusted cash deposit rate of zero percent).

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

This notice is issued and published in accordance with sections 751(a)(1) and 777(i)(1) of the Act.

Dated: October 9, 2024.
Ryan Majerus,
Deputy Assistant Secretary for Policy and Negotiations performing the non-exclusive functions and duties of the Assistant Secretary for Enforcement and Compliance.

Appendix I—List of Topics Discussed in the Issues and Decision Memorandum

I. Summary

II. Background

III. Scope of the Order

IV. Changes Since the Preliminary Results

V. Discussion of the Issues

Comment 1: Correction of a Ministerial Error for ATC

Comment 2: Application of the Export Subsidy Offset for ATC

Comment 3: Status of ATC's Startup Adjustment

Comment 4: Treatment of Certain of ATC's Reported Costs for Direct Materials and Duties

Comment 5: Whether Commerce Should Reconsider Its Differential Pricing Analysis for ATF

Comment 6: Whether Commerce Should Grant ATF an Export Subsidy Offset

Comment 7: Whether an Adjustment for Duty Drawback or Certain Other Programs is Warranted for ATF

Comment 8: Exclusion of Balakrishna Industries Ltd.'s Sales

VI. Recommendation

Appendix II—Companies Not Selected for Individual Examination Receiving the Review-Specific Rate

1. Apollo Tyres Ltd.

2. Balkrishna Industries Ltd.¹¹

¹¹ Subject merchandise produced and exported by BKT was excluded from the Order. See Certain New Pneumatic Off-the-Road Tires from India: Notice of Correction to Antidumping Duty Order, 82 FR 25598 (June 2, 2017). Accordingly, BKT is only covered by this administrative review for subject merchandise produced in India where BKT acted as either the manufacturer or exporter (but not both).

3. CEAT Ltd.

4. Emerald Resilient Tyre Manufacturer

5. HRI Tires India

6. JK Tyres and Industries Ltd.

7. K.R.M. Tyres

8. Mahansaria Tyres Private Limited

9. MRF Limited

10. MRL Tyres Limited (Malhotra Rubbers Ltd.)

11. Speedways Rubber Company

12. TVS Srichakra Limited

[FR Doc. 2024-23915 Filed 10-16-24; 8:45 am]

BILLING CODE 3510-DS-P